ENVIRONMENTAL PROTECTION AGENCY

[EPA-HQ-OAR-2020-0665; FRL-10197-01-OMS]

Information Collection Request Submitted to OMB for Review and Approval; Comment Request; NSPS for Other Solid Waste Incineration Units (Renewal)

AGENCY: Environmental Protection Agency (EPA).

ACTION: Notice.

SUMMARY: The Environmental Protection Agency (EPA) has submitted an information collection request (ICR), NSPS for Other Solid Waste Incineration Units (EPA ICR Number 2163.08, OMB Control Number 2060-0563), to the Office of Management and Budget (OMB) for review and approval in accordance with the Paperwork Reduction Act. Public comments were previously requested, via the Federal Register on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 11, 2022.

ADDRESSES: Submit your comments, referencing Docket ID Number EPA-HQ-OAR-2020-0665 online using https://www.regulations.gov/ (our preferred method), or by email to docket.oeca@epa.gov, or by mail to: EPA Docket Center, Environmental Protection Agency, Mail Code 28221T, 1200 Pennsylvania Ave. NW, Washington, DC 20460.

The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The New Source Performance Standards (NSPS) for Other Solid Waste Incineration (OSWI) Units (40 CFR part 60, subpart EEEE) apply to very small municipal waste combustion units and institutional waste incineration units. A new incineration unit subject to this subpart should meet either one of two criteria: (1) Commenced construction after December 9, 2004; or (2) commenced reconstruction or modification either on or after June 16, 2006. A very small municipal waste combustion unit is any municipal waste combustion unit that has the capacity to combust less than 35 tons per day of municipal solid waste or refuse-derived fuel. An institutional waste incineration unit is any combustion unit that combusts institutional waste and is a distinct operating unit of the institutional facility that generated the waste. Institutional waste is solid waste that is combusted at any institutional facility using controlled flame combustion in an enclosed, distinct operating unit with one of the following characteristics: (1) whose design does not provide for energy recovery; or (2) operated without energy recovery; or (3) operated with only waste heat recovery. Institutional waste also means solid waste combusted on site in an air curtain incinerator that is a distinct operating unit of any institutional facility. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 60, subpart EEEE.

Form Numbers: None.

Respondents/affected entities: OSWI units, which include two subcategories: VSMWC units that combust less than 35 tons per day of waste and IWI units.

Respondent's obligation to respond: Mandatory (40 CFR part 60, subpart EEEE).

Estimated number of respondents: 2 (total).

Frequency of response: Initially, semiannually, and annually.

Total estimated burden: 1,210 hours (per year). Burden is defined at 5 CFR 1320.3(b).

Total estimated cost: $153,000 (per year), which includes $10,000 in annualized capital/startup and/or operation & maintenance costs.

Changes in the Estimates: There is an adjustment decrease in the total estimated burden as currently identified in the OMB Inventory of Approved Burdens. This decrease is not due to any program changes. The adjustment decrease in burden from the most-recently approved ICR is primarily due to more accurate estimates of existing sources, which is based on the revised facility inventory developed in support of the August 2020 proposed revisions and discussed in the proposed supporting statement (EPA-HQ-OAR-2003-0156-0146). The decrease in operation and maintenance (O&M) costs, compared with the costs in the previous ICR, is due to the decrease in the estimate of existing sources. Additionally, this ICR corrects an error in the Agency's burden from the most-recently approved ICR. The most recently approved ICR applied estimated burden for preparation of annual summary reports and applied the burden to all affected facilities. However, the annual summary report is prepared by the Designated Administrator of a State or Federal Plan, which is not applicable to this NSPS. This ICR corrects the estimated burden by removing the annual summary report from the Agency's activities.

Courtney Kerwin,
Director, Regulatory Support Division.

[FR Doc. 2022-19425 Filed 9-7-22; 8:45 am]

BILLING CODE 6560-50-P